DEPARTMENT OF TRANSPORTATION

Maritime Administration

[USCG-2007-28535]

Atlantic Sea Island Group LLC, Safe Harbor Energy Liquefied Natural Gas Deepwater Port License Application; Preparation of Environmental Impact Statement

AGENCY: Maritime Administration, DOT.

ACTION: Notice of extending the scoping comment period to March 11, 2009 and corrected project location information.

SUMMARY: By Federal Register notice of January 9, 2009 (74 FR 982-984) the Maritime Administration and the Coast Guard announced the intent to prepare an environmental impact statement (EIS) for the Atlantic Sea Island Group LLC, Safe Harbor Energy liquefied natural gas deepwater port license application located in Federal Waters approximately 13.5 miles south of the City of Long Beach, New York, 19 miles east of Highlands, New Jersey, and 23 miles southeast of the Ports of New York and New Jersey. The project location was incorrectly noted in the referenced Federal Register notice. The correct proposed location is in the area between the Ambrose-to-Nantucket and Hudson Canyon-to-Ambrose shipping lanes, located at approximately 40°23′ N and 73°36′ W, in water depth of between 60 and 70 feet covering an area known as Cholera Bank.

The EIS will be prepared with the New York State Department of Environmental Conservation (NYSDEC) as a cooperating agency in the environmental review with the Coast Guard. The EIS will meet the requirements of both the National Environmental Policy Act (NEPA) and the New York State Environmental Quality Review Act (SEQRA). In addition, the Coast Guard and the Maritime Administration will be working with appropriate state agency representatives from New Jersey to ensure potential impacts and concerns of New Jersey are addressed in the EIS.

Publication of this notice began a 30 day scoping process and requested public participation to assist in the identification and determination of the environmental issues to be addressed in the EIS with a deadline for submitting comments of February 9, 2009.

In addition to receiving comments at the public scoping meetings on January 27, 2009 and January 29, 2009, instructions were provided for submitting comments to the Department of Transportation (DOT) Docket Management Facility and to the Federal Docket Management System (FDMS). The Coast Guard and Maritime Administration have received several requests to extend the scoping comment period; therefore, upon further consideration the scoping comment period is extended to March 11, 2009.

DATES: Comments or related material must be received by March 11, 2009.

ADDRESSES: Docket submissions for USCG-2007-28535 should be addressed to: Department of Transportation, Docket Management Facility, West Building, Ground Floor, Room W12-140, 1200 New Jersey Avenue, SE., Washington, DC 20590-0001.

The Docket Management Facility accepts hand-delivered submissions, and makes docket contents available for public inspection and copying at this address between 9 a.m. and 5 p.m., Monday through Friday, except Federal holidays. The Facility telephone number is 202-366-9329, the fax number is 202-493-2251, and the Web site for electronic submissions or for electronic access to docket contents is: http://www.regulations.gov.

FOR FURTHER INFORMATION CONTACT: Mark Prescott, U.S. Coast Guard, telephone: 202-372-1440, e-mail: Mark.A.Prescott@uscg.mil; or LT Hannah Kawamoto, U.S. Coast Guard, telephone: 202-372-1438, e-mail: Hannah.K.Kawamoto@uscg.mil; or Yvette Fields, U.S. Maritime Administration, telephone: 202-366-0926, e-mail: Yvette.Fields@dot.gov; or John Ferguson, New York State Department of Environmental Conservation, telephone: 518-402-9167, e-mail: jjfergus@gw.dec.state.ny.us. If you have questions on viewing the docket, call Renee V. Wright, Program Manager, Docket Operations, telephone: 202-493-0402, e-mail: renee.wright@dot.gov.

The FDMS also contains the notices, application and related correspondence; informational open house materials; will also contain the public meeting transcripts; and will contain the Draft and the Final EIS and all comments submitted whether at public meetings or submitted directly to the DOT Docket Management Facility or the FDMS.

SUPPLEMENTARY INFORMATION:

Request for Comments

The Coast Guard, Maritime Administration, and the NYSDEC request submittal of comments and related material on environmental issues related to the proposed deepwater port using one of the methods described below. We most particularly seek comments that identify potentially significant impacts, alternatives, or mitigation measures that should be taken into account in determining the scope of the EIS.

The Coast Guard, Maritime Administration, and the NYSDEC will consider all comments and material received during the comment period. It is not necessary to present comments more than once. Comments need not be submitted to multiple agencies; all comments received will be shared amongst the agencies.

Submissions to the DOT Docket Management Facility or FDMS should include:

• Docket number USCG-2007-28535;

• Your name and address;

• Please include reasons for making each comment or bringing information to our attention so that we may properly address your concerns.

Submit comments or material using one of the following methods:

• Electronic submission to FDMS (preferred) at http://www.regulations.gov: Click on “Search for Dockets;” Enter Docket ID 28535; view documents by clicking the PDF icon under “Views;” and/or follow the online instructions for submitting comments.

• Fax, mail, or hand delivery to the DOT Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comment or material, all submissions will be posted, without change, to the FMDS Web site (http://www.regulations.gov), and will include any personal information provided. Therefore, submitting this information makes it public. You may wish to read the Privacy and Use Notice that is available on the FDMS Web site, and the Department of Transportation Privacy Act Notice that appeared in the Federal Register on April 11, 2000 (65 FR 19477), see PRIVACY ACT. You may view docket submissions at the Department of Transportation Docket Management Facility or electronically on the FDMS Web site (see ADDRESSES).

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://www.regulations.gov.

(Authority 49 CFR 1.66)

By order of the Maritime Administrator.
Dated: February 4, 2009.
Christine S. Gurland,
Acting Secretary, Maritime Administration.

[FR Doc. E9-2668 Filed 2-9-09; 8:45 am]

BILLING CODE 4910-81-P